FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011409-016.

Title: Transpacific Carrier Services Inc. Agreement.

Parties: American President Lines, Ltd. and APL Co. PTE Ltd.; China Shipping Container Lines Co., Ltd.; CMA CGM S.A.; COSCO Container Lines Company, Ltd.; Evergreen Lines Joint Service Agreement; Hanjin Shipping Co., Ltd.; Hapag-Lloyd AG; Hyundai Merchant Marine Co., Ltd.; Kawasaki Kisen Kaisha, Ltd.; Mitsui O.S.K. Lines, Ltd.; Nippon Yusen Kaisha, Ltd.; Orient Overseas Container Line Limited; and Yang Ming Marine Transport Corp.

Filing Party: David F. Smith, Esq; Sher & Blackwell LLP; 1850 M Street, NW.; Suite 900; Washington, DC 20036.

Synopsis: The amendment would delete China Shipping Container Lines Co., Ltd. as a party to the agreement and add Zim Integrated Shipping Services, Ltd.

Agreement No.: 011870-006.

Title: Indian Subcontinent Discussion Agreement.

Parties: CMA CGM S.A.; Emirates Shipping Line FZE; MacAndrews & Company Limited; Shipping Corporation of India; United Arab Shipping Company (S.A.G.); and Zim Integrated Shipping Services, Ltd.

Filing Party: David F. Smith, Esq.; Sher & Blackwell LLP; 1850 M Street, NW.; Suite 900; Washington, DC 20036.

Synopsis: The amendment removes Evergreen Line Joint Service Agreement and NYK as parties to the agreement.

Agreement No.: 011961-002.

Title: The Maritime Credit Agreement.

Parties: Alianca Navegacao e Logistica Ltda. & Cia; A.P. Moller-Maersk A/S; Atlantic Container Line AB; China Shipping Container Lines Co., Ltd.; CMA CGM, S.A.; Companhia Libra de Navegacao; Compania Sudamericana de Vapores, S.A.; COSCO Container Lines Company Limited; Crowley Liner Services, Inc.; Dole Ocean Cargo Express; Hamburg-Süd; Hapag-Lloyd AG; Hoegh Autoliners A/S; Independent Container Line Ltd.; Compania Libra de Navegacion Uruguay S.A.; Norasia Container Lines Limited; Safmarine Container Lines N.V.; Tropical Shipping & Construction Co., Ltd.; United Arab Shipping Company (S.A.G.); Wallenius Wilhelmsen Logistics AS; and Zim Integrated Shipping Services, Ltd.

Filing Party: Wayne R. Rohde, Esq.; Sher & Blackwell LLP; 1850 M Street, NW.; Suite 900; Washington, DC 20036.

Synopsis: The amendment would delete Crowley Liner Services, Inc. as a party to the Agreement, add Kawasaki Kisen Kaisha, Ltd. as a party, and correct the address of Hoegh Autoliners.

Agreement No.: 011999-001.

Title: Hapag-Lloyd/NYK Slot Exchange Agreement.

Parties: Hapag-Lloyd AG and Nippon Yusen Kaisha, Ltd.

Filing Party: David F. Smith, Esq.; Sher & Blackwell LLP; 1850 M Street, NW; Suite 900; Washington, DC 20036.

Synopsis: The amendment would add Pakistan to the geographic scope of the agreement. The parties request expedited review.

Dated: August 31, 2007.
By order of the Federal Maritime Commission.
Bryant L. VanBrakle,
Secretary.

[FR Doc. E7-17632 Filed 9-5-07; 8:45 am]

BILLING CODE 6730-01-P